DEPARTMENT OF TRANSPORTATION

Federal Aviation Administration

Using SAE ARP5526, Aircraft Seat Design Guidance and Clarifications, in Seat Design Approvals

AGENCY: Federal Aviation Administration (DOT).

ACTION: Notice of availability of final policy.

SUMMARY: The FAA announces the availability of the final policy explaining how the Society of Automotive Engineers' (SAE) Aerospace Recommended Practice (ARP) 5526, Aircraft Seat Design Guidance and Clarifications, can be used in seat design approvals.

DATE: The Aircraft Engineering Division and the Transport Airplane Directorate's seat design policy memorandum referencing SAE ARP5526 approval date is June 26, 2003.

FOR FURTHER INFORMATION CONTACT: Hal Jensen, FAA, Aircraft Certification Service, Aircraft Engineering Division, Technical Programs Branch, Room 835, 800 Independence Avenue, SW., Washington DC 20591; telephone: (202) 267-8807; fax: (202) 267-5340; e-mail: hal.jensen@faa.gov, or contact Jeff Gardlin, FAA, Transport Airplane Directorate, Transport Standards Staff, Airframe and Cabin Safety Branch, ANM-115, 1601 Lind Avenue SW., Renton, WA 98055-4056; telephone (425) 227-2136; fax (415) 227-1149; e-mail: jeff.gardlin@faa.gov.

SUPPLEMENTARY INFORMATION:

Background

Recently the SAE published ARP5526, Aircraft Seat Design Guidance and Clarifications. In an effort to streamline the certification of aircraft seats, the Aircraft Engineering Division, in concert with the Transport Airplane Directorate, issued a June 26, 2003, policy memorandum recommending seat suppliers and seat installers use SAE ARP5526 to the maximum extent possible in the design and approval of aircraft seats. SAE ARP5526 provides clarification and documents existing guidance and practice for complying with some of the requirements of the Technical Standard Orders (TSO), and the applicable certification airworthiness requirements for aircraft seat approvals. Note that SAE ARP5526 does not impose additional criteria to show compliance to the aircraft seat TSOs or the applicable certification requirements.

How To Obtain Copies

A copy of the policy memorandum may be obtained via the Internet at, http://www.airweb.faa.gov/RGL, or by contacting either person listed in the section titled for further information contact.

You can buy copies of SAE ARP5526 from SAE World Headquarters, 400 Commonwealth Drive, Warrendale, PA 15096-0001; telephone (877) 606-7323 (United States and Canada only), or (724) 776-4970 (outside the United States and Canada), fax (724) 776-0790. You can also get copies through the SAE Internet Web site at, http://www.sae.org.

Issued in Washington, DC, on July 14, 2003.
David W. Hempe,
Manager, Aircraft Engineering Division, Aircraft Certification Service.

[FR Doc. 03-18516 Filed 7-21-03; 8:45 am]

BILLING CODE 4910-13-P